DEPARTMENT OF THE INTERIOR

Bureau of Land Management

[16X LLUT980300 L10100000.XZ0000 24-1A]

Notice of Utah Resource Advisory Council/Recreation Resource Advisory Council Meeting

AGENCY: Bureau of Land Management, Interior.

ACTION: Notice.

SUMMARY: In accordance with the Federal Land Policy and Management Act, the Federal Advisory Committee Act, and the Federal Lands Recreation Enhancement Act, the Bureau of Land Management's (BLM) Utah Resource Advisory Council (RAC)/Recreation Resource Advisory Council (RecRAC) will meet as indicated below.

DATES: The BLM-Utah RAC/RecRAC will meet May 5, 2016, from 8:00 a.m.-3:45 p.m.

ADDRESSES: The RAC/RecRAC will meet at the BLM-Utah State Office, Monument Conference Room (5th Floor), 440 West 200 South, Salt Lake City, Utah.

FOR FURTHER INFORMATION CONTACT: Lola Bird, Public Affairs Specialist (RAC Coordinator), Bureau of Land Management, Utah State Office, 440 West 200 South, Suite 500, Salt Lake City, Utah 84101; phone (801) 539-4033; or lbird@blm.gov.

SUPPLEMENTARY INFORMATION: Planned agenda topics include the introduction of new members; election of new officers; an overview of BLM-Utah issues; updates on the effort to revise the BLM's planning regulations (Planning 2.0); implementation of the Greater Sage-Grouse land use plan; updates on the St. George Field Office resource management planning process (including the Red Cliffs and Beaver Dam National Conservation Areas); and, updates on the Respect and Protect Anti-Looting Campaign. The RecRAC will be briefed on the BLM's Connecting with Utah Communities Strategy and the Federal Lands Recreation Enhancement Act. The BLM-Henry Mountain Field Station will brief the RecRAC on a recreation fee pilot project that was approved by the RecRAC in November 2014.

A half-hour public comment period will take place from 12:30-1:30 p.m. The meeting is open to the public; however, transportation, lodging, and meals are the responsibility of the participating individuals.

Persons who use a telecommunications device for the deaf (TDD) may call the Federal Information Relay Service (FIRS) at 1-800-877-8339 to leave a message or question for the above individual. The FIRS is available 24 hours a day, seven days a week. Replies are provided during normal business hours.

Authority: 43 CFR 1784.4-1.

Jenna Whitlock,
Acting State Director.

[FR Doc. 2016-07383 Filed 3-31-16; 8:45 am]

BILLING CODE 4310-DQ-P